DEPARTMENT OF ENERGY

National Nuclear Security Administration; Amended Record of Decision: Site-Wide Environmental Impact Statement for the Continued Operation of Los Alamos National Laboratory, Los Alamos, NM

AGENCY: National Nuclear Security Administration, U.S. Department of Energy.

ACTION: Amended Record of Decision.

SUMMARY: The National Nuclear Security Administration (NNSA), a semi-autonomous agency within the U.S. Department of Energy (DOE), is amending its September 26, 2008 Record of Decision (ROD) issued pursuant to the Site-Wide Environmental Impact Statement for the Continued Operation of Los Alamos National Laboratory, Los Alamos, New Mexico (LANL SWEIS; DOE/EIS-0380). That ROD announced NNSA's decision, among other things, to continue and expand support for the Global Threat Reduction Initiative (GTRI) Off-Site Source Recovery Project (OSRP). These activities include the recovery, storage, and disposal of certain high-activity sealed sources to minimize risks to national security and public health and safety. The LANL SWEIS and subsequent ROD did not address shipment of sealed sources through the global commons and the use of a commercial facility in managing these sealed sources as part of the GTRI program's recovery of sealed sources. In April, 2011, NNSA prepared a Supplement Analysis for the Transport and Storage of High-Activity Sealed Sources from Uruguay and Other Locations (DOE/EIS-0380-SA-02) to analyze the potential impacts of these actions. Based on the LANL SWEIS and the Supplement Analysis, NNSA is amending the ROD for the LANL SWEIS to announce its decision that these actions can be expected to take place as part of the ongoing GTRI program.

FOR FURTHER INFORMATION CONTACT: For further information about the GTRI OSRP, contact: Ms. Abigail Cuthbertson; phone: 202-586-2391; email: Abigail.Cuthbertson@nnsa.doe.gov.

For general information concerning the DOE NEPA process, contact: Ms. Carol M. Borgstrom, Director, Office of NEPA Policy and Compliance (GC-54), U.S. Department of Energy, 1000 Independence Avenue, SW., Washington, DC 20585; (202) 586-4600; leave a message at (800) 472-2756; or send an e-mail to ask NEPA@hq.energy.gov. Additional information regarding DOE NEPA activities and access to many DOE NEPA documents, including those referenced in this ROD, are available on the Internet through the DOE NEPA Web site at http://nepa.energy.gov.

SUPPLEMENTARY INFORMATION:

Background

The GTRI mission includes the effort to reduce and protect vulnerable nuclear and radiological materials located at civilian sites worldwide. Part of the GTRI mission is implemented through OSRP, an ongoing effort (since 1979) that involves the recovery, storage, and, when appropriate, disposition of disused (excess, unwanted) radiological sources that present national security or public health and safety concerns. GTRI OSRP recovers sealed sources domestically and, in coordination with the U.S. Department of State and the International Atomic Energy Agency (IAEA), from foreign countries.

Some of the sources recovered through OSRP are high-activity beta/gamma sealed sources used in medical devices (e.g., teletherapy units) and for research. These contain cobalt-60, cesium-137, radium-226, or strontium-90. OSRP may recover sources from approximately 20 locations annually. Most would be recovered from locations within the United States; others would come from locations in foreign countries, such as Uruguay.

The specific actions analyzed in DOE/EIS-0380-SA-02 include packaging the sealed sources (sometimes with a part of the larger device within which they are contained), transporting the packages to a secure storage facility with the capability to safely handle the sources, then transporting the sealed sources to their country of origin or disposing of the sealed sources as low-level radioactive waste at the Nevada National Security Site (NNSS) in southern Nevada if the sources meet the NNSS waste acceptance criteria. DOE accepts ownership of the sealed sources prior to transport or, for sources recovered from foreign countries, upon arrival in the United States.

Basis for Decision

In addition, DOE/EIS-0380-SA-02 activities associated with the recovery of high-activity sealed sources are analyzed in the Site-Wide Environmental Impact Statement for the Continued Operation of Los Alamos National Laboratory, Los Alamos, New Mexico (DOE/EIS-0380). NNSA published a ROD based on the LANL SWEIS announcing its decision, among other things, to continue and expand support for GTRI OSRP activities (73 FR 55833; September 26, 2008). The disposal of low-level radioactive waste, including sealed sources, is analyzed in the Final Environmental Impact Statement for the Nevada Test Site and Off-Site Locations in the State of Nevada (DOE/EIS-0243). This EIS resulted in a ROD stating that NNSS is available to DOE sites for disposal of low-level radioactive waste that meets the NNSS waste acceptance criteria (61 FR 65551, December 13, 1996). Certain sealed sources meeting NNSS low-level waste acceptance criteria have been disposed of at the NNSS.

Environmental Impacts Associated With the Decision

In the Supplement Analysis, NNSA analyzes potential impacts associated with actions involving high activity sealed sources including transporting sealed sources by commercial cargo aircraft and by truck; handling such as loading and offloading associated with transportation; storage; opening and repackaging containers to inspect sealed sources; and intentional destructive acts. Estimates of potential impacts are comparable to those for similar activities analyzed in the LANL SWEIS and other DOE NEPA documents. The dose estimates and associated risks are small. For example, the highest dose estimate in the Supplement Analysis associated with incident-free commercial truck transport of sealed sources is approximately 78 millirem to an individual crewmember, which equates to a fatal cancer risk of approximately 1 chance in 25,000.

For air transport of sealed sources, which was not analyzed in the LANL SWEIS, the Supplement Analysis estimates potential impacts associated with incident-free operations and accidents. For a 12-hour flight transporting three containers with sealed sources, the estimated dose to a crew of four is 0.0065 person-rem, which equates to a chance of one in approximately 250,000 of a latent cancer fatality among the crew. For other transportation scenarios, this estimate would vary according to factors such as flight time and the number of containers of sealed sources. However, the variability would not change the overall conclusion that potential impacts are small and similar to those estimated for transportation of radioactive material in other DOE NEPA documents.

The air transport accident analysis assumed a low probability crash from a landing stall and subsequent fire. For purposes of analysis, NNSA assumed failure of all transport packages, though this is a very unlikely scenario. If such an accident were to occur, the Supplement Analysis estimates a chance of a latent cancer fatality of about one in 100,000 among the population surrounding the accident location (approximately five million people within 50 miles). When the probability of the accident (4.5 x 10⁻⁶) is considered, the risk of a latent cancer fatality is about one chance in 20 billion.

Amended Decision

Consistent with the decisions announced in the ROD issued pursuant to the LANL SWEIS (73 FR 55833; September 26, 2008), NNSA will continue implementing the GTRI OSRP program, including the recovery, storage and disposition of high-activity beta/gamma sealed sources. This program includes the recovery of sealed sources from foreign countries, and NNSA has decided that transport of high-activity sealed sources through the global commons via commercial cargo aircraft may be utilized as part of the ongoing GTRI OSRP program.

Mitigation Measures

NNSA will use all practicable means to avoid or minimize environmental harm when implementing the actions described in this ROD. NNSA operates pursuant to a number of Federal laws including environmental laws, DOE Orders, and Federal, State, and local controls, and agreements. Also, the commercial storage and transportation activities associated with the recovery of high-activity sealed sources are regulated by the Nuclear Regulatory Commission (and states granted certain authorities by the Commission) and the Department of Transportation. Many of these requirements mandate actions that may serve to mitigate potential adverse environmental impacts.

Issued in Washington, DC, on June 27, 2011.
Thomas P. D'Agostino,
Administrator, National Nuclear Security Administration.

[FR Doc. 2011-17161 Filed 7-7-11; 8:45 am]

BILLING CODE 6450-01-P